DEPARTMENT OF JUSTICE

Justice Management Division

Agency Information Collection Activities: Proposed Collection; Comment Requested

ACTION: 30-Day notice of information collection under review: certification of identity.

The Department of Justice (DOJ), Justice Management Division, has submitted the following information collection request to the Office of Management and Budget (OMB) for review and approval in accordance with the Paperwork Reduction Act of 1995. The proposed information collection is published to obtain comments from the public and affected agencies. This proposed information collection was previously published in the Federal Register (Volume 68, Number 198, on page 59195 on October 14, 2003, allowing for a 60-day comment period.

The purpose of this notice is to allow for an additional 30 days for public comment until June 4, 2004. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806.

Written comments and suggestions from the public and affected agencies concerning the proposed collection of information should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility and clarity of the information to be collected; and

—Minimize the burden of the collection of information on those who are to respond, including through the use of appropriate automated, electronic, mechanical, or other technological collection techniques or other forms of information technology, e.g., permitting electronic submission of responses.

Overview of this information collection:

(1) The type of information collection: Extension, without change, of a previously approved collection for which approval has expired.

(2) The title of the form/collection: Certification of Identity.

(3) Agency form number, if any, and the applicable component of the Department of Justice sponsoring the collection: Form: DOJ-361. Facilities and Administrative Services Staff, Justice Management Division, U.S. Department of Justice.

(4) Affected public who will be asked or required to respond, as well as a brief abstract: Primary: American Citizens. Other: Federal Government. The information collection will be used by the Department to identify individuals requesting certain records under the Privacy Act. Without this form an individual cannot obtain the information requested.

(5) An estimate of the total number of respondents and the amount of time estimated for an average respondent to respond: 55,478 respondents at 30 minutes per response.

(6) An estimate of the total public burden (in hours) associated with the collection: 27,739 annual burden hours.

If additional information is required contact Ms. Brenda E. Dyer, Department Deputy Clearance Officer, United States Department of Justice, Information Management and Security Staff, Justice Management Division, Suite 1600, Patrick Henry Building, 601 D Street, NW., Washington, DC 20530.

Dated: April 29, 2004.
Brenda E. Dyer,
Department Deputy Clearance Officer, PRA, United States Department of Justice.

[FR Doc. 04-10181 Filed 5-4-04; 8:45 am]

BILLING CODE 4410-CW-P